SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: April 1-30, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (e) and (f) for the time period specified above.

Water Source Approval—Issued Under 18 CFR 806.22(e)

1. BEST BEV, LLC; Pad ID: Waverly Canning Facility; ABR-202304001; Barton Town, Tioga County, NY; Consumptive Use of Up to 0.1000 mgd; Approval Date: April 7, 2023.

2. Bottling Group, LLC; Pad ID: Pepsi Beverages Company; ABR-202304002; Lower Paxton Township, Dauphin County, Pa.; Consumptive Use of Up to 0.4660 mgd; Approval Date: April 14, 2023.

Water Source Approval—Issued Under 18 CFR 806.22(f)

1. Chesapeake Appalachia, L.L.C.; Pad ID: Hanlon; ABR-201303003.R2; McNett Township, Lycoming County, Pa.; Consumptive Use of Up to 7.5000 mgd; Approval Date: April 12, 2023.

2. Chesapeake Appalachia, L.L.C.; Pad ID: J. Brown Drilling Pad; ABR-201303001.R2; Troy Township, Bradford County, Pa.; Consumptive Use of Up to 7.5000 mgd; Approval Date: April 12, 2023.

3. Chesapeake Appalachia, L.L.C.; Pad ID: Jes; ABR-201303008.R2; Wilmot Township, Bradford County, Pa.; Consumptive Use of Up to 7.5000 mgd; Approval Date: April 12, 2023.

4. Chesapeake Appalachia, L.L.C.; Pad ID: Lasher; ABR-201303010.R2; Auburn Township, Susquehanna County, Pa.; Consumptive Use of Up to 7.5000 mgd; Approval Date: April 12, 2023.

5. Coterra Energy Inc.; Pad ID: MackeyR P1; ABR-201203015.R2; Lathrop Township, Susquehanna County, Pa.; Consumptive Use of Up to 5.0000 mgd; Approval Date: April 12, 2023.

6. Coterra Energy Inc.; Pad ID: MolnarM P1; ABR-201303007.R2; Brooklyn Township, Susquehanna County, Pa.; Consumptive Use of Up to 5.0000 mgd; Approval Date: April 12, 2023.

7. Repsol Oil & Gas USA, LLC; Pad ID: MONRO (03 142) G; ABR-201803001.R1; Columbia Township, Bradford County, Pa.; Consumptive Use of Up to 6.0000 mgd; Approval Date: April 12, 2023.

8. Chesapeake Appalachia, L.L.C.; Pad ID: Waldeisen-Ladd Drilling Pad; ABR-20100699.R2.1; Fox Township, Sullivan County, Pa.; Consumptive Use of Up to 7.5000 mgd; Approval Date: April 12, 2023.

9. Chesapeake Appalachia, L.L.C.; Pad ID: W & L Drilling Pad #1; ABR-201103014.R2.1; Lemon Township, Wyoming County, Pa.; Consumptive Use of Up to 7.5000 mgd; Approval Date: April 12, 2023.

10. Chesapeake Appalachia, L.L.C.; Pad ID: SGL-12 A Drilling Pad; ABR-201407007.R1.1; Overton Township, Bradford County, Pa.; Consumptive Use of Up to 7.5000 mgd; Approval Date: April 12, 2023.

11. Chesapeake Appalachia, L.L.C.; Pad ID: PELTON UNIT PAD; ABR-202205001.1; Franklin Township, Bradford County, Pa.; Consumptive Use of Up to 7.5000 mgd; Approval Date: April 17, 2023.

12. BKV Operating, LLC; Pad ID: Mazzara; ABR-201103035.R2; Washington Township, Wyoming County, Pa.; Consumptive Use of Up to 5.0000 mgd; Approval Date: April 24, 2023.

13. Chesapeake Appalachia, L.L.C.; Pad ID: Lucy; ABR-201304015.R2; Monroe Township, Bradford County, Pa.; Consumptive Use of Up to 7.5000 mgd; Approval Date: April 24, 2023.

14. Chesapeake Appalachia, L.L.C.; Pad ID: Sharpe; ABR-201304004.R2; Windham Township, Wyoming County, Pa.; Consumptive Use of Up to 7.5000 mgd; Approval Date: April 24, 2023.

15. Seneca Resources Company, LLC; Pad ID: COP Pad S; ABR-201103029.R2; Lawrence Township, Clearfield County, Pa.; Consumptive Use of Up to 4.0000 mgd; Approval Date: April 24, 2023.

16. Seneca Resources Company, LLC; Pad ID: M L Mitchell Trust 554; ABR-201103017.R2; Middlebury Township, Tioga County, Pa.; Consumptive Use of Up to 4.0000 mgd; Approval Date: April 24, 2023.

17. Seneca Resources Company, LLC; Pad ID: PHC Pad Z; ABR-201103024.R2; Lawrence Township, Clearfield County, Pa.; Consumptive Use of Up to 4.0000 mgd; Approval Date: April 24, 2023.

18. Chesapeake Appalachia, L.L.C.; Pad ID: Lathrop Farm Trust Drilling Pad; ABR-201302004.R2; Auburn Township, Susquehanna County, Pa.; Consumptive Use of Up to 7.5000 mgd; Approval Date: April 28, 2023.

19. Chesapeake Appalachia, L.L.C.; Pad ID: McEnaney; ABR-201304001.R2; Terry Township, Bradford County, Pa.; Consumptive Use of Up to 7.5000 mgd; Approval Date: April 28, 2023.

20. Chesapeake Appalachia, L.L.C.; Pad ID: Poepperling; ABR-201304017.R2; North Branch Township, Wyoming County, Pa.; Consumptive Use of Up to 7.5000 mgd; Approval Date: April 28, 2023.

21. Chesapeake Appalachia, L.L.C.; Pad ID: SGL 12 C DRILLING PAD; ABR-201703004.R1; Leroy Township, Bradford County, Pa.; Consumptive Use of Up to 7.5000 mgd; Approval Date: April 28, 2023.

22. Chesapeake Appalachia, L.L.C.; Pad ID: SGL 36 DRILLING PAD; ABR-201803007.R1; Overton Township, Bradford County, Pa.; Consumptive Use of Up to 7.5000 mgd; Approval Date: April 28, 2023.

23. Coterra Energy Inc.; Pad ID: CarpenettiR P1; ABR-201303014.R2; Lathrop Township, Susquehanna County, Pa.; Consumptive Use of Up to 5.0000 mgd; Approval Date: April 28, 2023.

24. Coterra Energy Inc.; Pad ID: CastrogiovanniA P3; ABR-201303011.R2; Bridgewater Township, Susquehanna County, Pa.; Consumptive Use of Up to 5.0000 mgd; Approval Date: April 28, 2023.

25. Coterra Energy Inc.; Pad ID: PritchardD P1; ABR-201304005.R2; Harford Township, Susquehanna County, Pa.; Consumptive Use of Up to 5.0000 mgd; Approval Date: April 28, 2023.

26. Coterra Energy Inc.; Pad ID: TsourousA P1; ABR-201703007.R1; Jessup Township, Susquehanna County, Pa.; Consumptive Use of Up to 5.0000 mgd; Approval Date: April 28, 2023.

27. Range Resources—Appalachia, LLC; Pad ID: Roaring Run Unit; ABR-201203029.R2; Cogan House Township, Lycoming County, Pa.; Consumptive Use of Up to 5.0000 mgd; Approval Date: April 28, 2023.

28. Seneca Resources Company, LLC; Pad ID: COP Pad N; ABR-201103001.R2; Lawrence Township, Clearfield County, Pa.; Consumptive Use of Up to 4.0000 mgd; Approval Date: April 28, 2023.

29. Seneca Resources Company, LLC; Pad ID: DCNR 100 Pad D; ABR-201102002.R2; McIntyre Township, Lycoming County, Pa.; Consumptive Use of Up to 4.0000 mgd; Approval Date: April 28, 2023.

30. Seneca Resources Company, LLC; Pad ID: Kuhl 529; ABR-201102014.R2; Richmond Township, Tioga County, Pa.; Consumptive Use of Up to 4.0000 mgd; Approval Date: April 28, 2023.

31. Seneca Resources Company, LLC; Pad ID: Salevsky 335; ABR-201103046.R2; Charleston Township, Tioga County, Pa.; Consumptive Use of Up to 4.0000 mgd; Approval Date: April 28, 2023.

32. SWN Production Company, LLC; Pad ID: DRANN PAD; ABR-201303006.R2; New Milford Township, Susquehanna County, Pa.; Consumptive Use of Up to 4.9990 mgd; Approval Date: April 28, 2023.

33. SWN Production Company, LLC; Pad ID: Marichini-Zingieser (Pad 9); ABR-201303012.R2; Herrick Township, Bradford County, Pa.; Consumptive Use of Up to 4.9990 mgd; Approval Date: April 28, 2023.

34. SWN Production Company, LLC; Pad ID: McMahon (VW Pad); ABR-201304003.R2; Stevens Township, Bradford County, Pa.; Consumptive Use of Up to 4.9990 mgd; Approval Date: April 28, 2023.

35. SWN Production Company, LLC; Pad ID: TI-17 Hoffman; ABR-201803003.R1; Liberty Township, Tioga County, Pa.; Consumptive Use of Up to 4.9990 mgd; Approval Date: April 28, 2023.

36. Seneca Resources Company, LLC; Pad ID: Swan 1122; ABR-201104031.R2; Farmington Township, Tioga County, Pa.; Consumptive Use of Up to 4.0000 mgd; Approval Date: April 29, 2023.

Authority: Public Law 91-575, 84 Stat. 1509 et seq., 18 CFR parts 806 and 808.

Dated: May 11, 2023.
Jason E. Oyler,
General Counsel and Secretary to the Commission.

[FR Doc. 2023-10403 Filed 5-15-23; 8:45 am]

BILLING CODE 7040-01-P